DEPARTMENT OF DEFENSE

Office of the Secretary

[Docket ID: DOD-2013-HA-0192]

Proposed collection; comment request

AGENCY: Office of the Assistant Secretary of Defense for Health Affairs, DoD.

ACTION: Notice

SUMMARY: In compliance with the Paperwork Reduction Act of 1995, the Office of the Assistant Secretary of Defense for Health Affairs announces a proposed revision to the existing DoD Suicide Event Report (DoDSER) information collection system, and seeks public comment on the revisions thereof. Comments are invited on: (a) whether the proposed revisions will impact the proper performance and functions of the DoDSER system, including whether the revisions shall have practical utility; (b) the accuracy of the agency's estimate of the burden of the proposed revisions; (c) ways to enhance the quality, utility, and clarity of the information to be revised; and (d) ways to minimize the burden of the information collection on respondents, including how these revisions shall affect user burden.

DATES: Consideration will be given to all comments received by December 18, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the National Center for Telehealth and Technology (T2), 9933 West Hayes Street, BOX 339500 MS 34, Joint Base Lewis-McChord 98431 or call (253) 968-2946.

SUPPLEMENTARY INFORMATION:

Title; Associated Form; and OMB Number: Department of Defense Suicide Event Report; DD2996; OMB Control Number 0720-0058.

Needs and Uses: The revision of this information collection system is necessary to the continued provision of integrated enterprise and survey data to be used for direct reporting of suicide events and ongoing population-based health surveillance activities. These surveillance activities include the systematic collection, analysis, interpretation, and reporting of outcome-specific data for use in planning, implementation, evaluation, and prevention of suicide behaviors within the Department of Defense. Data is collected on individuals with reportable suicide and self-harm behaviors (to include suicide attempts, self-harm behaviors, and suicidal ideation). All other DoD active and reserve military personnel records collected without evidence of reportable suicide and self-harm behaviors will exist as a control group. Records are integrated from enterprise systems and created and revised by civilian and military personnel in the performance of their duties. We propose to revise the system to make specific changes that have been recommended for improving the completeness of DoDSER data.

Affected Public: Individuals and households.

Annual Burden Hours: 330.

Number of Respondents: 1975.

Responses per Respondent: 1.

Average Burden per Response: 10 minutes.

Frequency: As required by qualifying event.

Form completers are behavioral and medical health providers, military unit leadership or their designees. The DoDSER form is used to collect information regarding suicide events of military service members. Form completers collect information from military personnel records, military medical records, enterprise data systems within the DoD and persons (respondent) familiar with the event details. Respondents include but are not limited to family members, friends, unit members, unit leadership and clergy members. The DoDSER form data is used to produce ad hoc reports for services leadership and the DoDSER Annual Report. The annual report is a comprehensive description and analysis of the data collected, which provides information for DoD suicide prevention efforts.

Dated: October 14, 2015.
Morgan F. Park,
Alternate OSD Federal Register Liaison Officer, Department of Defense.

[FR Doc. 2015-26461 Filed 10-16-15; 8:45 am]

BILLING CODE 5001-06-P